DEPARTMENT OF HOMELAND SECURITY

[Docket No. DHS-2013-0057]

President's National Security Telecommunications Advisory Committee

AGENCY: National Protection and Programs Directorate, DHS.

ACTION: Committee Management Notice of an Open Federal Advisory Committee Meeting.

SUMMARY: The President's National Security Telecommunications Advisory Committee (NSTAC) will meet on Wednesday, November 20, 2013. The meeting will be open to the public.

DATES: The NSTAC will meet on Wednesday, November 20, 2013, from 9:00 a.m. to 2:00 p.m. Please note that the meeting may close early if the committee has completed its business.

ADDRESSES: The meeting will be held at the Department of Homeland Security's U.S. Immigration and Customs Enforcement (ICE) facility located at 500 12th Street SW., Washington, DC, 20024. For access to the facility, contact Ms. Suzanne Daage by email at sue.daage@hq.dhs.gov or phone at (703)235-5461 by 5:00 p.m. on Wednesday, November 13, 2013. For information on services or facilities for individuals with disabilities or to request special assistance to access the meeting, contact Ms. Suzanne Daage by email at sue.daage@hq.dhs.gov or phone at (703) 235-5461.

To facilitate public participation, we are inviting public comment on the issues to be considered by the committee as listed in the “Supplementary Information” section below. The documents associated with the topics to be discussed during the meeting will be available at www.dhs.gov/nstac for review by Tuesday, November 12, 2013. Written comments must be received by the NSTAC Alternate Designated Federal Officer no later than Monday, November 18, 2013, and may be submitted by any one of the following methods:

• Federal eRulemaking Portal: http://www.regulations.gov. Follow the instructions for submitting written comments.

• Email: NSTAC@hq.dhs.gov. Include the docket number in the subject line of the email message.

• Fax: (703) 235-5961

• Mail: Alternate Designated Federal Officer, Stakeholder Engagement and Cyber Infrastructure Resilience Division, National Protection and Programs Directorate, Department of Homeland Security, 245 Murray Lane, Mail Stop 3016B, Arlington, VA 20598-0615.

Instructions: All submissions received must include the words “Department of Homeland Security” and the docket number for this action. Comments received will be posted without alteration at http://www.regulations.gov including any personal information provided.

Docket: For access to the docket, including all documents and comments received by the NSTAC, go to http://www.regulations.gov.

A public comment period will be held during the meeting on Wednesday, November 20, 2013, from 1:30 p.m. to 2:00 p.m. Speakers who wish to participate in the public comment period must register in advance no later than Wednesday, November 13, 2013, at 5:00 p.m. by emailing Suzanne Daage at sue.daage@hq.dhs.gov. Speakers are requested to limit their comments to three minutes and will speak in order of registration as time permits.

Please note that the public comment period may end before the time indicated, following the last call for comments.

FOR FURTHER INFORMATION CONTACT: Mr. Mike Echols, NSTAC Alternate Designated Federal Officer, Department of Homeland Security, telephone (703) 235-5469.

SUPPLEMENTARY INFORMATION: Notice of this meeting is given under the Federal Advisory Committee Act (FACA), 5 U.S.C. App. (Pub. L. 92-463). The NSTAC advises the President on matters related to national security and emergency preparedness (NS/EP) telecommunications policy. During the meeting, the Industrial Internet Subcommittee Co-Chairs will provide the NSTAC members with a status of its work. Next, the NSTAC will receive an update on the status of the Government's progress implementing recommendations from recently completed reports. Next, the Executive Office of the President (EOP) will discuss with members its next tasking on information technology mobilization. Additionally, the members will hear several industry and Government briefings. The first briefing will be on the current threat environment. Next, the Federal Communications Commission will brief members on its cybersecurity activities. Finally, the EOP will facilitate a roundtable discussion with members on the National Institute of Standards and Technology's Cybersecurity Framework.

Dated: September 30, 2013.
Mike Echols,
Alternate Designated Federal Officer for the NSTAC.

[FR Doc. 2013-24887 Filed 10-22-13; 8:45 am]

BILLING CODE 9110-9P-P